OFFICE OF PERSONNEL MANAGEMENT

5 CFR Part 591

RIN 3206-AL07

Allowances and Differentials

AGENCY: Office of Personnel Management.

ACTION: Proposed rule with request for comments.

SUMMARY: The Office of Personnel Management is issuing proposed regulations to increase the maximum annual uniform allowance rate. When civilian Federal employees are required to wear a uniform in the performance of their duties, agencies must pay a uniform allowance or furnish a uniform. Under the proposed rule, the maximum annual uniform allowance rate would be increased from $400 to $500.

DATES: Comments must be received on or before August 29, 2006.

ADDRESSES: Send or deliver written comments to Jerome D. Mikowicz, Acting Deputy Associate Director for Pay and Performance Policy, Strategic Human Resources Policy Division, Office of Personnel Management, Room 7H31, 1900 E Street, NW., Washington, DC 20415-8200; by fax at (202) 606-0824; or by e-mail at pay-performance-policy@opm.gov.

FOR FURTHER INFORMATION CONTACT: Kevin Kitchelt, by telephone at (202) 606-2858; by fax at (202) 606-0824; or by e-mail at pay-performance-policy@opm.gov.

SUPPLEMENTARY INFORMATION: The Office of Personnel Management (OPM) is proposing to increase the maximum annual uniform allowance rate. Under 5 U.S.C. 5901(a), when civilian Federal employees are required to wear a uniform in the performance of their duties, agencies must pay a uniform allowance not to exceed $400 a year or furnish a uniform at a cost not to exceed $400. Many agencies provide uniform allowances to employees, such as police officers, firefighters, customs and border patrol officers, and medical personnel. Under 5 U.S.C. 5902, OPM may, from time to time, adjust the maximum uniform allowance granted to employees for the cost of their uniforms. The maximum uniform allowance rate has not been increased since 1991. The Producer Price Index—Commodities (Seasonally Adjusted) increased approximately 24 percent between January 1991 and January 2005. Therefore, we are proposing to revise the regulations at 5 CFR 591.103 to increase the maximum annual uniform allowance rate from $400 to $500.

E.O. 12866, Regulatory Review

This rule has been reviewed by the Office of Management and Budget in accordance with E.O. 12866.

Regulatory Flexibility Act

I certify that these regulations would not have a significant economic impact on a substantial number of small entities because they would apply only to Federal agencies and employees.

List of Subjects in 5 CFR Part 591

Government employees, Travel and transportation expenses, Wages.

Office of Personnel Management.
Linda M. Springer,
Director.

Accordingly, OPM is proposing to amend 5 CFR part 591 as follows:

PART 591—ALLOWANCES AND DIFFERENTIALS

Subpart A—Uniform Allowances

1. The authority citation for subpart A of part 591 continues to read as follows:

Authority: 5 U.S.C. 5903; E.O. 12748, 3 CFR 1991 Comp., p. 316. Source: 59 FR 43705, Aug. 25, 1994, unless otherwise noted.

2. In § 591.103, paragraphs (a) and (b) are revised to read as follows:

§ 591.103 Governmentwide maximum uniform allowance rate.

* * * * *

(a) Pay an allowance for a uniform not to exceed $500 a year; or

(b) Furnish a uniform at a cost not to exceed $500 a year.

[FR Doc. 06-5890 Filed 6-29-06; 8:45 am]

BILLING CODE 6325-39-P